DEPARTMENT OF LABOR

Employment and Training Administration

[TA-W-80,363]

Hutchinson Technology Inc. Including On-Site Leased Workers From Doherty Staffing Hutchinson, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on September 7, 2011, applicable to workers of Hutchinson Technology Inc., Hutchinson, Minnesota. The Department's notice of determination was published in the Federal Register on September 23, 2011 (76 FR 59169).

At the request of the Minnesota Department of Employment and Economic Development, the Department reviewed the certification for workers of the subject firm. The workers were engaged in production of suspension assemblies for disk drives.

The company reports that workers leased from Doherty Staffing were employed on-site at the Hutchinson, Minnesota location of Hutchinson Technology Inc. The Department has determined that these workers were sufficiently under the control of the subject firm to be considered leased workers.

Based on these findings, the Department is amending this certification to include workers leased from Doherty Staffing working on-site at the Hutchinson, Minnesota location of Hutchinson Technology Inc.

The amended notice applicable to TA-W-80,363 is hereby issued as follows:

“All workers of Hutchinson Technology Inc., including on-site leased workers from Doherty Staffing, Hutchinson, Minnesota, who became totally or partially separated from employment on or after September 19, 2011, through September 7, 2013, and all workers in the group threatened with total or partial separation from employment on the date of certification through two years from the date of certification, are eligible to apply for adjustment assistance under Chapter 2 of Title II of the Trade Act of 1974, as amended.”

Signed in Washington, DC this April 16, 2013.
Michael W. Jaffe,
Certifying Officer, Office of Trade Adjustment Assistance.

[FR Doc. 2013-11458 Filed 5-14-13; 8:45 am]

BILLING CODE 4510-FN-P